DEPARTMENT OF TRANSPORTATION

Pipeline and Hazardous Materials Safety Administration

Hazardous Materials: Meeting Future Hazardous Materials Transportation Safety Challenges

AGENCY: Pipeline and Hazardous Materials Safety Administration (PHMSA), DOT.

ACTION: Notice of public workshop—“Transporting Hazardous Materials Safely—the Next 100 Years.”

SUMMARY: PHMSA is hosting a public workshop to identify and discuss strategies for meeting emerging hazardous materials transportation safety challenges, particularly in the development of innovative safety solutions that provide the Department of Transportation, other federal agencies, state agencies, the regulated community, and emergency response organizations with flexible tools to manage and reduce safety risks. The workshop will provide an opportunity for PHMSA and its stakeholders to discuss the future direction of the hazardous materials transportation safety program, with a focus on three broad themes: (1) Safety, Risk Reduction, and Integrity Management; (2) 21st Century Solutions: Using New Technology for Improved Safety Controls/Improving Safety Controls for New Technology; and (3) Achieving Balance and Effectiveness—Consistency and Uniformity.

DATES: July 31, 2008, starting at 8:30 a.m.

ADDRESSES: The workshop will be held at the U.S. Department of Housing and Urban Development Conference Facility, 451 7th Street, SW., Washington, DC 20410. For information on the facilities or to request special accommodations at the workshop, please contact Ms. Maria Howard by telephone or e-mail as soon as possible.

FOR FURTHER INFORMATION CONTACT: Ms. Maria Howard, 202-266-0225, e-mail Maria.Howard@dot.gov or LaToya Moore, 202-366-0656, e-mail Latoya.Moore@dot.gov, Office of Hazardous Materials Safety, Pipeline and Hazardous Materials Safety Administration.

SUPPLEMENTARY INFORMATION: The U.S. Department of Transportation (DOT), through PHMSA and other DOT operating administrations, is responsible for a comprehensive, nationwide program designed to protect the Nation from the risks to life, health, property, and the environment inherent in the commercial transportation of hazardous materials. This year marks the 100th anniversary of the hazardous materials transportation safety program, which originated with enactment of the Transportation of Explosives and Other Dangerous Articles Act (specifically, “An Act to promote the safe transportation in interstate commerce of explosives and other dangerous articles”) on May 30, 1908. The Act charged the Interstate Commerce Commission (ICC) with formulating binding regulations “in accord with the best known practicable means for securing safety in transit, covering the packing, marking, loading, handling while in transit, and the precautions necessary to determine whether the material when offered is in proper condition to transport.” The Act specifically required the marking of every package containing explosives “or other dangerous articles” and prohibited false or deceptive markings, descriptions, or declarations.

Since 1908, the federal program to minimize the risks associated with the commercial transportation of hazardous materials has evolved from its initial focus on the regulation of explosives to a broad and comprehensive safety and security program applicable to a wide variety of materials and articles shipped by multiple modes of transport across interstate and international boundaries and overseen by an array of federal and state agencies. Hazardous materials are essential to the economy of the United States and the well-being of its people. Hazardous materials fuel automobiles, and heat and cool homes and offices, and are used for farming and medical applications and in manufacturing, mining, and other industrial processes. More than 3 billion tons of regulated hazardous materials—including explosive, poisonous, corrosive, flammable, and radioactive materials—are transported in this country each year. Over 800,000 shipments of hazardous materials move daily by plane, train, truck, or vessel in quantities ranging from several ounces to many thousands of gallons. These shipments frequently move through densely populated or sensitive areas where the consequences of an incident could be loss of life or serious environmental damage. Our communities, the public, and workers engaged in hazardous materials commerce count on the safety and security of these shipments.

The system of controls and standards developed over the last 100 years has achieved considerable success in reducing the risks posed by the commercial transportation of hazardous materials. As we look to the future, we want to build on this success, particularly in the development of innovative safety solutions that provide the agency, our federal and state partners, the regulated community, and emergency response officials with flexible tools to manage and reduce safety risks.

To this end, PHMSA is hosting a public workshop on July 31, 2008. We are planning an interactive workshop that will engage our stakeholders on a range of topics that we consider critical to the future direction of the hazardous materials transportation safety program. This workshop will provide an opportunity for our stakeholders to suggest ways to improve on our vision and ideas for making the vision a reality. Equally important, the workshop will provide a forum for our stakeholders to identify common issues and problems and suggest synergistic strategies for addressing them. We hope that the workshop will surface a range of views on how to meet the challenges ahead, focusing on three broad areas:

1. Safety, Risk Reduction, and Integrity Management

With safety as our top priority, the hazardous materials transportation safety program targets continued reduction in transportation risk, even as the size and complexity of the system grow. The program is challenged to quickly identify emerging risks and develop innovative, flexible, and effective safety controls to address those risks. For example, we are considering whether integrity management principles could be effectively applied to hazardous materials transportation activities to enhance safety. Integrity management is a risk reduction program that promotes continuous improvement in safety performance by requiring companies to collect and use information to guide system-specific planning and implementation of risk controls. PHMSA has successfully implemented integrity management requirements under its Pipeline Safety program, achieving improved safety performance without undue regulatory burden. Quality assurance programs may also be an effective way to identify and address system-wide safety risks.

2. 21st Century Solutions: New Technology for Improved Safety Controls/Improving Safety Controls for New Technology

A second set of challenges for the hazardous materials transportation safety program reflects the opportunities and risks posed by rapid technological advances. The safety controls developed over the program's first 100 years need to keep pace with the demands of our fast-moving, far-reaching economy and transportation systems. As we embark on the program's second century, we are committed to improving the quality, reliability, and timeliness of information guiding all parts of the safety control system, including hazard communication. Because of their capabilities to improve the speed, accuracy, and efficiency of communications, wireless and electronic data systems and tools are rapidly replacing paper-based systems for documenting transactions, tracing shipments, and exchanging commercial information. As the private sector and government agencies transition to paperless systems, adherence to longstanding paper-based requirements for hazardous materials transportation places an increasing burden on the system, contributing to freight delays and congestion. At the same time, reliance on paper-based communications may limit the effectiveness of hazard communication and impair or delay response to hazmat incidents and emergencies. Deploying new communication technologies holds the promise of improving safety, even as it reduces regulatory burdens and improves the performance of the transportation system.

A related challenge is to find ways to quickly develop and implement appropriate safety controls for new materials or technologies that are not covered by current regulatory requirements. Transportation is key to promoting the development and widespread utilization of new technologies. Government and industry must be able to address possible safety risks associated with new materials or technologies without undue delays in authorizing their transportation. One strategy may be for a company to invest in independent, third-party analyses of safety risks associated with a new material or technology that would then form the basis for development of rigorous transportation controls that would be approved by PHMSA pending promulgation of more general regulatory requirements.

C. Achieving Balance and Effectiveness—Consistency and Uniformity

A third challenge for the hazardous materials transportation safety program is to identify integrated strategies for advancing safety that involve the many regulatory agencies and non-federal jurisdictions with hazardous materials oversight responsibilities. A number of federal agencies, including the Environmental Protection Agency, the Occupational Safety and Health Administration, the Bureau of Alcohol, Tobacco, Firearms, and Explosives, and the Department of Homeland Security, have regulatory authority over facilities that manufacture, handle, and store hazardous materials outside of transportation. In addition, state and local governments may elect to regulate facilities that manufacture or store hazardous materials within their jurisdictions. Because these agencies and authorities have different interests and goals, regulated entities are sometimes confronted with a myriad of differing and, perhaps, inconsistent requirements that impair productivity and efficiency and could adversely affect safety. At the same time, critical safety issues may not be addressed at all. A broad strategy to more closely integrate all of these programs would enhance system wide risk reduction through information and data sharing, early identification of safety problems, and leveraging of resources.

PHMSA invites all interested persons, including state and local officials, emergency response personnel, and hazardous materials shippers and carriers, to participate in this workshop. We would like to use this forum to promote a dialogue among all interested stakeholders to help us identify the most appropriate strategies for identifying and addressing emerging transportation safety challenges. If you wish to participate in the public workshop, you must provide your name and organization to Ms. Maria Howard by telephone (202-366-0225) or e-mail (Maria.Howard@dot.gov) or Latoya Moore by telephone (202-366-0656) or e-mail (Latoya.Moore@dot.gov) no later than July 24, 2008. Non-federal personnel must also provide the last five digits of their social security numbers. Providing this information will facilitate the security screening process for entry into the building on the day of the workshop. Participants should plan to arrive at 8 a.m. and must present a picture ID to enter the building. Participants do not need to prepare oral comments, but rather, be prepared to take part in an open discussion on the issues outlined above.

Issued in Washington, DC on July 15, 2008.
Theodore L. Willke,
Associate Administrator for Hazardous Materials Safety.

[FR Doc. E8-16503 Filed 7-17-08; 8:45 am]

BILLING CODE 4910-60-P